FEDERAL COMMUNICATIONS COMMISSION

Sunshine Act Meeting; Open Commission Meeting; Friday, October 28, 2005

October 21, 2005.

The Federal Communications Commission will hold an Open Meeting on the subjects listed below on Friday, October 28, 2005, which is scheduled to commence at 10 a.m. in Room TW-C305, at 445 12th Street, SW., Washington, DC.

Item No. | Bureau | Subject
1 | Enforcement | Title: Review of the Emergency Alert System (EB Docket No. 04-296).
|  | Summary: The Commission will consider a First Report and Order and Further Notice of Proposed Rulemaking concerning the Emergency Alert System rules.
2 | Media | Title: Implementation of the Satellite Home Viewer Extension and Reauthorization Act of 2004 (MB Docket No. 05-49) and Implementation of Section 340 of the Communications Act.
|  | Summary: The Commission will consider a Report and Order to adopt rules for satellite carriage of “significantly viewed” television stations pursuant to the Satellite Home Viewer Extension and Reauthorization Act (SHVERA).
3 | Wireline Competition | Title: SBC Communications Inc. and AT&T Corp. Applications for Approval of Transfer of Control (WC Docket No. 05-65).
|  | Summary: The Commission will consider a Memorandum Opinion and Order concerning the proposed transfer of licenses and authorizations from AT&T Corp. to SBC Communications Inc.
4 | Wireline Competition | Title: Verizon Communications Inc. and MCI, Inc. Applications for Approval of Transfer of Control (WC Docket No. 05-75).
|  | Summary: The Commission will consider a Memorandum Opinion and Order concerning the proposed transfer of licenses and authorizations from MCI, Inc. to Verizon Communications Inc.

Open captioning will be provided for this event. Other reasonable accommodations for people with disabilities are available upon request. Include a description of the accommodation you will need including as much detail as you can. Also include a way we can contact you if we need more information. Make your request as early as possible; please allow at least 5 days advance notice. Last minute requests will be accepted, but may be impossible to fill. Send an e-mail to: fcc504@fcc.gov or call the Consumer & Governmental Affairs Bureau at 202-418-0530 (voice), 202-418-0432 (TTY).

Additional information concerning this meeting may be obtained from Audrey Spivack or David Fiske, Office of Media Relations, (202) 418-0500; TTY 1-888-835-5322. Audio/Video coverage of the meeting will be broadcast live with open captioning over the Internet from the FCC's Audio/Video Events Web page at http://www.fcc.gov/realaudio.

For a fee this meeting can be viewed live over George Mason University's Capitol Connection. The Capitol Connection also will carry the meeting live via the Internet. To purchase these services call (703) 993-3100 or go to http://www.capitolconnection.gmu.edu.

Copies of materials adopted at this meeting can be purchased from the FCC's duplicating contractor, Best Copy and Printing, Inc. (202) 488-5300; Fax (202) 488-5563; TTY (202) 488-5562. These copies are available in paper format and alternative media, including large print/type; digital disk; and audio and video tape. Best Copy and Printing, Inc. may be reached by e-mail at FCC@BCPIWEB.com.

Federal Communications Commission.
Marlene H. Dortch,
Secretary.

[FR Doc. 05-21496 Filed 10-24-05; 4:08 pm]

BILLING CODE 6712-01-P